FEDERAL COMMUNICATIONS COMMISSION

47 CFR Part 64

[CG Docket Nos. 03-123, 10-51, 13-24 and WC Docket No. 12-375; FCC 22-51; FCC 22-76; FR ID 191657]

VRS and IP CTS—Commencement of Pending User Registration; Rates for Interstate Inmate Calling Services

AGENCY: Federal Communications Commission.

ACTION: Final rule; announcement of effective and compliance dates.

SUMMARY: In this document, the Federal Communications Commission (FCC or Commission) announces that the Office of Management and Budget (OMB) has approved, for a period of three years, the information collection associated with certain rules adopted in the Commission's documents Telecommunications Relay Services and Speech-to-Speech Services for Individuals with Hearing and Speech Disabilities et al., Report and Order, FCC 22-51, and Rates for Interstate Inmate Calling Services, Fourth Report and Order, FCC 22-76. This document is consistent with the Report and Orders, which stated that the Commission would publish a document in the Federal Register announcing the effective date of those rules.

DATES:

Effective date: The amendments to §§ 64.611(k)(1)(i) through (iii) (amendatory instruction 6), 64.6040(c) (amendatory instruction 11), and 64.6060(a)(5) through (7) (amendatory instruction 12), published at 87 FR 75496, December 9, 2022, are effective December 21, 2023.

Compliance dates: Compliance with § 64.6040(b)(2), published at 87 FR 75496, December 9, 2022, is required by January 1, 2024. Compliance with §§ 64.611(a)(4)(iii) and (iv) and 64.615(a)(6)(v) and (vi), published at 87 FR 57645, September 21, 2022, for providers of video relay service (VRS), is required on December 21, 2023.

FOR FURTHER INFORMATION CONTACT: Michael Scott, Disability Rights Office, Consumer and Governmental Affairs Bureau, at (202) 418-1264, or email: Michael.Scott@fcc.gov.

SUPPLEMENTARY INFORMATION: This document announces that, on December 5, 2023, and December 13, 2023, OMB approved, for a period of three years, the information collection requirements contained in the Commission's Report and Order, FCC 22-51, published at 87 FR 57645, September 21, 2022, and Report and Order FCC 22-76, published at 87 FR 75496, December 9, 2022. The OMB Control Numbers are 3060-1053 and 3060-1089. The Commission publishes this document as an announcement of the effective and compliance dates of the rules. On March 8, 2023, the Commission published an effective date notification, at 88 FR 14251, for the programmatic changes adopted in FCC 22-51 that apply to the provision of Internet Protocol captioned telephone relay service (IP CTS), specifically 47 CFR 64.611 (amendatory instruction 3) and 64.615 (amendatory instruction 4). If you have any comments on the burden estimates listed below, or how the Commission can improve the collections and reduce any burdens caused thereby, please contact Cathy Williams, Federal Communications Commission, via email: Cathy.Willilams@fcc.gov. Please include the OMB Control Numbers, 3060-1053 or 3060-1089, in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on December 5, 2023, and December 13, 2023, for the information collection requirements contained in the Commission's documents FCC 22-51 and FCC 22-76.

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-1053 and 3060-1089.

The foregoing notification is required by the Paperwork Reduction Act of 1995, Public Law 104-13, October 1, 1995, and 44 U.S.C. 3507.

The total annual reporting burdens and costs for the respondents are as follows:

OMB Control Number: 3060-1053.

OMB Approval Date: December 13, 2023.

OMB Expiration Date: December 31, 2026.

Title: Misuse of Internet Protocol Captioned Telephone Service (IP CTS); Telecommunications Relay Services and Speech-to-Speech Services for Individuals with Hearing and Speech Disabilities, CG Docket Nos. 13-24 and 03-123.

Form Number: N/A.

Type of Review: Revision of a currently approved collection.

Respondents: Business or other for-profit.

Number of Respondents and Responses: 187,173 respondents; 673,980 responses.

Estimated Time per Response: 0.1 hours (6 minutes) to 40 hours.

Frequency of Response: Annual, every five years, monthly, and ongoing reporting requirements; Recordkeeping requirements; Third party disclosure requirements.

Obligation to Respond: Required to obtain or retain benefits. The statutory authority for the information collection requirements is found at sec. 225 [47 U.S.C. 225] Telecommunications Services for Hearing-Impaired Individuals; The Americans with Disabilities Act of 1990, (ADA), Public Law 101-336, 104 Stat. 327, 366-69, enacted on July 26, 1990.

Total Annual Burden: 342,103 hours.

Total Annual Cost: $72,000.

Needs and Uses:

On August 1, 2003, the Commission released Telecommunication Relay Services and Speech-to-Speech Services for Individuals with Hearing and Speech Disabilities, CC Docket No. 98-67, Declaratory Ruling, 68 FR 55898, September 28, 2003, clarifying that one-line captioned telephone voice carry over (VCO) service is a type of telecommunications relay service (TRS) and that eligible providers of such services are eligible to recover their costs from the Interstate TRS Fund (Fund) in accordance with section 225 of the Communications Act.

On July 19, 2005, the Commission released Telecommunication Relay Services and Speech-to-Speech Services for Individuals with Hearing and Speech Disabilities, CC Docket No. 98-67 and CG Docket No. 03-123, Order, 70 FR 54294, September 14, 2005, clarifying that two-line captioned telephone VCO service, like one-line captioned telephone VCO service, is a type of TRS eligible for compensation from the Fund.

On January 11, 2007, the Commission released Telecommunications Relay Services and Speech-to-Speech Services for Individuals with Hearing and Speech Disabilities, CG Docket No. 03-123, Declaratory Ruling, 72 FR 6960, February 14, 2007, granting a request for clarification that Internet Protocol captioned telephone relay service is a type of TRS eligible for compensation from the Fund.

On August 26, 2013, the Commission issued Misuse of Internet Protocol Captioned Telephone Service; Telecommunications Relay Services and Speech-to-Speech Services for Individuals with Hearing and Speech Disabilities, CG Docket Nos. 13-24 and 03-123, Report and Order, 78 FR 53684, August 30, 2013, to regulate practices relating to the marketing of IP CTS, impose certain requirements for the provision of this service, and mandate registration and certification of IP CTS users.

On June 8, 2018, the Commission issued Misuse of Internet Protocol Captioned Telephone Service; Telecommunications Relay Services and Speech-to-Speech Services for Individuals with Hearing and Speech Disabilities, CG Docket Nos. 13-24 and 03-123, Report and Order and Declaratory Ruling, 83 FR 30082, June 27, 2018 (2018 IP CTS Modernization Order), to facilitate the Commission's efforts to reduce waste, fraud, and abuse and improve its ability to efficiently manage the IP CTS program through regulating practices related to the marketing of IP CTS, generally prohibiting the provision of IP CTS to consumers who do not genuinely need the service, permitting the provision of IP CTS in emergency shelters, and approving the use of automatic speech recognition to generate captions without the assistance of a communications assistant.

On February 15, 2019, the Commission issued Misuse of Internet Protocol Captioned Telephone Service; Telecommunications Relay Services and Speech-to-Speech Services for Individuals with Hearing and Speech Disabilities, CG Docket Nos. 13-24 and 03-123, Report and Order and Order, 84 FR 8457, March 8, 2019 (2019 IP CTS Program Management Order), requiring the submission of IP CTS user registration information to the telecommunications relay service (TRS) User Registration Database (Database) so that the Database administrator can verify IP CTS users to reduce the risk of waste, fraud, and abuse in the IP CTS program.

On June 30, 2022, the Commission issued Telecommunications Relay Services and Speech-to-Speech Services for Individuals with Hearing and Speech Disabilities; Structure and Practices of the Video Relay Service Program; Misuse of Internet Protocol Captioned Telephone Service, CG Docket Nos. 03-123, 10-51, and 13-24, Report and Order, published at 87 FR 57645, September 21, 2022 (Registration Grace Period Order), allowing IP CTS and Video Relay Service (VRS) providers to provide compensable service to a new user for up to two weeks after submitting the user's information to the Database if the user's identity is verified within that period, in order to offer more efficient service to IP CTS and VRS users without risk of waste, fraud, and abuse to the Fund.

On September 30, 2022, the Commission released Rates for Interstate Inmate Calling Services, FCC 22-76, published at 87 FR 75496, December 9, 2022 (Accessible Carceral Communications Order). To improve access to communications services for incarcerated people with communications disabilities, the Commission adopted modifications to the user registration and verification requirements applicable to the provision of IP CTS and VRS for use of internet-based TRS in correctional facilities.

OMB Control No.: 3060-1089.

OMB Approval Date: December 5, 2023.

OMB Expiration Date: December 31, 2026.

Title: Structure and Practices of the Video Relay Service Program; Telecommunications Relay Services and Speech-to-Speech Services for Individuals with Hearing and Speech Disabilities, CG Docket Nos. 10-51 & 03-123.

Form No.: N/A.

Type of Review: Revision of a currently approved collection.

Respondents: Business or other for-profit entities; Individuals or households;

Not-for-profit institutions; State, Local or Tribal Government.

Number of Respondents and Responses: 187,019 respondents; 1,836,456 responses.

Estimated Time per Response: 0.05 hours (3 minutes) to 300 hours.

Frequency of Response: Annual, monthly, on occasion, on-going, one-time, and quarterly reporting requirements; recordkeeping requirement; and third-party disclosure requirements.

Obligation to Respond: Required to obtain or retain benefits. The statutory authority for the collection is contained in section 225 of the Communications Act, 47 U.S.C. 225. The law was enacted on July 26, 1990, as title IV of the Americans with Disabilities Act of 1990 (ADA), Public Law 101-336, 104 Stat. 327, 366-69, and amended by the Twenty-First Century Communications and Video Accessibility Act of 2010, Public Law 111-260, 103(a), 124 Stat. 2751, 2755 (2010) (CVAA); Public Law 111-265 (technical amendments to CVAA).

Total Annual Burden: 320,484 hours.

Annual Cost Burden: $280,200.

Needs and Uses:

The telecommunications relay service (TRS) program enables access to the nation's telephone network by persons with hearing and speech disabilities. In 1991, as required by the Americans with Disabilities Act and codified at 47 U.S.C. 225, the Commission adopted rules governing the telecommunications relay services (TRS) program and procedures for each state TRS program to apply for initial Commission certification and renewal of Commission certification of each state program. Telecommunications Services for Individuals with Hearing and Speech Disabilities, and the Americans with Disabilities Act of 1990, Report and Order and Request for Comments, document FCC 91-213, published at 56 FR 36729, August 1, 1991 (1991 TRS Implementation Order).

Between 2008 and 2011, to integrate internet-based TRS into the North American Numbering plan and facilitate interoperability, universal calling, and 911 emergency services, the Commission adopted rules in three separate orders related to the telephone numbering system and enhanced 911 (E911) services for users of two forms of internet-based TRS: Video Relay Service (VRS) and Internet Protocol Relay service (IP Relay). See document FCC 08-151, Report and Order, published at 73 FR 41286, July 18, 2008 (First Numbering Order); document FCC 08-275, Second Report and Order and Order on Reconsideration, published at 73 FR 79683, December 30, 2008 (Second Numbering Order); and document FCC 11-123, Report and Order, published at 76 FR 59551, September 27, 2011 (internet-based TRS Toll Free Order).

The rules adopted in these three orders have information collection requirements that include requiring VRS and IP Relay providers to: register each user who selects the provider as his or her default provider, including obtaining a self-certification from each user; verify the accuracy of each user's registration information; provision and maintain their registered users' routing information to the TRS Numbering Directory; place their users' Registered Location and certain callback information in Automatic Location Information (ALI) databases across the country and provide a means for their users to update their Registered Locations; include advisories on their websites and in any promotional materials addressing numbering and E911 services for VRS or IP Relay; verify in the TRS Numbering Directory whether each dial-around user is registered with another provider; and if they provide equipment to a consumer, make available to other VRS providers enough information about that equipment to enable another VRS provider selected as the consumer's default provider to perform all of the functions of a default provider.

On July 28, 2011, the Commission released Structure and Practices of the Video Relay Service Program, document FCC 11-118, published at 76 FR 47469, August 5, 2011, and at 76 FR 47476, August 5, 2011 (VRS Certification Order), adopting final and interim rules—designed to help prevent waste, fraud, and abuse, and ensure quality service, in the provision of internet-based forms of TRS. On October 17, 2011, the Commission released Structure and Practices of the Video Relay Service Program, Memorandum Opinion and Order and Order, document FCC 11-155, published at 76 FR 67070, October 31, 2011 (VRS Certification Reconsideration Order), modifying two aspects of information collection requirements contained in the VRS Certification Order.

On June 10, 2013, the Commission made permanent the interim rules adopted in the VRS Certification Order. Structure and Practices of the Video Relay Service Program; Telecommunications Relay Services and Speech-to-Speech Services for Individuals with Hearing and Speech Disabilities, Report and Order, document FCC 13-82, published at 78 FR 40582, July 5, 2013 (2013 VRS Reform Order).

The VRS Certification Order as modified by the VRS Certification Reconsideration Order and, as applicable, made permanent by the 2013 VRS Reform Order, amended the Commission's process for certifying internet-based TRS providers as eligible for payment from the Interstate TRS Fund (Fund) for their provision of internet-based TRS to ensure that internet-based TRS providers receiving certification are qualified to provide internet-based TRS in compliance with the Commission's rules and to eliminate waste, fraud and abuse through improved oversight of such providers. They contain information collection requirements including: submission of detailed information in an application for certification that shows the applicant's ability to comply with the Commission's rules; submission of annual reports that include updates to the provider's information on file with the Commission or a certification that there are no changes to the information; requirements for a senior executive of an applicant for internet-based TRS certification or an internet-based TRS provider, when submitting an annual compliance report, to certify under penalty of perjury to its accuracy and completeness; requirements for VRS providers to obtain prior authorization from the Commission for planned interruptions of service, to report to the Commission unforeseen interruptions of service, and to provide notification of temporary service outages, including updates, to consumers on their websites; and requirements for internet-based TRS providers that will no longer be providing service to give their customers notice at least 30-days in advance.

In the 2013 VRS Reform Order, the Commission adopted further measures to improve the structure, efficiency, and quality of the VRS program, reducing the noted inefficiencies in the program, as well as reducing the risk of waste, fraud, and abuse, and ensuring that the program makes full use of advances in commercially-available technology. The Commission required reporting of unauthorized and unnecessary use of VRS; established a central TRS user registration database (TRS-URD) for VRS, which incorporates a centralized eligibility verification requirement to ensure accurate registration and verification of users, as well as per-call validation, to achieve more effective prevention of waste, fraud, and abuse; established procedures to prevent unauthorized changes of a user's default TRS provider; and established procedures to protect TRS users' customer proprietary network information (CPNI) from disclosure.

On March 23, 2017, the Commission released Structure and Practices of the Video Relay Services Program et al., FCC 17-26, published at 82 FR 17754, April 13, 2017 (2017 VRS Improvements Order), which among other things, allows VRS providers to assign TRS Numbering Directory 10-digit telephone numbers to hearing individuals for the limited purpose of making point-to-point video calls, and gives VRS providers the option to participate in an at-home call handling pilot program, subject to certain limitations, as well as recordkeeping and reporting requirements.

On May 15, 2019, the Commission released Structure and Practices of the Video Relay Service Program; Telecommunications Relay Services and Speech-to-Speech Services for Individuals with Hearing and Speech Disabilities, FCC 19-39, published at 84 FR 26364, June 6, 2019 (2019 VRS Program Management Order). The Commission further improved the structure, efficiency, and quality of the VRS program, reduced the risk of waste, fraud, and abuse, and ensured that the program makes full use of advances in commercially-available technology. These improvements include information collection requirements, including: the establishment of procedures to register enterprise and public videophones to the TRS-URD; and permitting Qualified Direct Video Calling (DVC) Entities to access the TRS Numbering Directory and establishing an application procedure to authorize such access, including rules governing DVC entities and entry of information in the TRS Numbering Directory and the TRS-URD.

On August 2, 2019, the Commission released Implementing Kari's Law and Section 506 of RAY BAUM's Act; Inquiry Concerning 911 Access, Routing, and Location in Enterprise Communications Systems; Amending the Definition of Interconnected VoIP Service in Section 9.3 of the Commission's Rules, FCC 19-76, published at 84 FR 66716, December 5, 2019 (MLTS 911 and Dispatchable Location Order). The Commission amended its rules to ensure that the dispatchable location is conveyed to a Public Safety Answering Point (PSAP) with a 911 call, regardless of the technological platform used. Based on the directive in section 506 of RAY BAUM'S Act, the Commission adopted dispatchable location requirements that in effect modified the existing information collection requirements applicable to VRS, IP Relay, and covered internet Protocol captioned telephone service by improving the options for providing accurate location information to PSAPs as part of 911 calls.

Fixed internet-based TRS devices must provide automated dispatchable location. For non-fixed devices, when dispatchable location is not technically feasible, internet-based TRS providers may fall back to Registered Location or provide alternative location information. As a last resort, internet-based providers may route calls to Emergency Relay Calling Centers after making a good faith effort to obtain location data from all available alternative location sources. Dispatchable location means a location delivered to the PSAP with a 911 call that consists of the validated street address of the calling party, plus additional information such as suite, apartment, or similar information necessary to adequately identify the location of the calling party. Automated dispatchable location means automatic generation of dispatchable location. Alternative location information is location information (which may be coordinate-based) sufficient to identify the caller's civic address and approximate in-building location, including floor level, in large buildings.

On January 31, 2020, the Commission released Structure and Practices of the Video Relay Service Program; Telecommunications Relay Services and Speech-to-Speech Services for Individuals with Hearing and Speech Disabilities, FCC 20-7, 85 FR 27309, May 8, 2020 (VRS At-Home Call Handling Order). The Commission amended its rules to convert the VRS at-home call handling pilot program into a permanent one, thereby allowing CAs to work from home. To ensure user privacy and call confidentiality and to help prevent waste, fraud, and abuse, the modified information collections include requirements for VRS providers to apply for certification to allow their communications assistants to handle calls while working at home; monitoring and oversight requirements; and reporting requirements.

On June 30, 2022, the Commission released Telecommunications Relay Services and Speech-to-Speech Services for Individuals with Hearing and Speech Disabilities; Structure and Practices of the Video Relay Service Program; Misuse of internet Protocol Captioned Telephone Service, FCC 22-51, published at 87 FR 57645, September 21, 2022 (Registration Grace Period Order). To offer more efficient service to VRS and IP CTS users without risk of waste, fraud, and abuse to the TRS Fund, the Commission amended its rules to allow VRS and IP CTS providers to provide compensable service to a new user for up to two weeks after submitting the user's information to the TRS URD if the user's identity is verified within that period.

On September 30, 2022, the Commission released Rates for Interstate Inmate Calling Services, FCC 22-76, published at 87 FR 75496, December 9, 2022 (Accessible Carceral Communications Order). To improve access to communications services for incarcerated people with communications disabilities, the Commission adopted modifications to the user registration and verification requirements applicable to the provision of IP CTS and VRS for use of internet-based TRS in correctional facilities.

Federal Communications Commission.
Marlene Dortch,
Secretary, Office of the Secretary.

[FR Doc. 2023-28007 Filed 12-20-23; 8:45 am]

BILLING CODE 6712-01-P